NUCLEAR REGULATORY COMMISSION

[NRC-2024-0059]

10 CFR Chapter I

Unified Agenda of Federal Regulatory and Deregulatory Actions

AGENCY: Nuclear Regulatory Commission.

ACTION: Semiannual Regulatory Agenda.

SUMMARY: We are publishing our semiannual regulatory agenda (the Agenda) in accordance with Public Law 96-354, “The Regulatory Flexibility Act,” and Executive Order 12866, “Regulatory Planning and Review.” The NRC's Agenda is a compilation of all rulemaking activities on which we have recently completed action or have proposed or are considering action. We have completed 8 rulemaking activities since our complete Agenda was issued online at the Office of Management and Budget's website at https://www.reginfo.gov on December 6, 2023. This issuance of our Agenda contains 37 active and 19 long term rulemaking activities: 3 are Economically Significant in accordance with Section 3(f)(1) of E.O. 12866; 19 represent Other Significant agency priorities; 36 are Substantive, Nonsignificant rulemaking activities; and 6 are Administrative rulemaking activities. In addition, 7 rulemaking activities impact small entities. We are requesting comments on the rulemaking activities as identified in this Agenda.

DATES: Submit comments on rulemaking activities as identified in this Agenda by September 16, 2024.

ADDRESSES: Submit comments on any rulemaking activity in the Agenda by the date and methods specified in the Federal Register notice for the rulemaking activity. Comments received on rulemaking activities for which the comment period has closed will be considered if it is practical to do so, but assurance of consideration cannot be given except for comments received on or before the closure date specified in the Federal Register notice. You may submit comments on this Agenda through the Federal Rulemaking website by going to https://www.regulations.gov and searching for Docket ID NRC-2024-0059. Address questions about NRC dockets to Helen Chang, telephone: 301-415-3228; email: Helen.Chang@nrc.gov.

For additional direction on obtaining information and submitting comments, see “Obtaining Information and Submitting Comments” in the SUPPLEMENTARY INFORMATION section of this document.

FOR FURTHER INFORMATION CONTACT: Cindy K. Bladey, Office of Nuclear Material Safety and Safeguards, U.S. Nuclear Regulatory Commission, Washington, DC 20555-0001, telephone: 301-415-3280; email: Cindy.Bladey@nrc.gov. Persons outside the Washington, DC, metropolitan area may call, toll-free: 1-800-368-5642. For further information on the substantive content of any rulemaking activity listed in the Agenda, contact the individual listed under the heading “Agency Contact” for that rulemaking activity.

SUPPLEMENTARY INFORMATION:

Obtaining Information and Submitting Comments

A. Obtaining Information

Please refer to Docket ID NRC-2024-0059 when contacting the NRC about the availability of information for this document. You may obtain publicly available information related to this document by any of the following methods:

Federal Rulemaking Website: Go to https://www.regulations.gov and search for Docket ID NRC-2024-0059.

NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

Reginfo.gov:

For completed rulemaking activities go to https://www.reginfo.gov/public/do/eAgendaHistory?showStage=completed, select “Spring 2024 The Regulatory Plan and the Unified Agenda of Federal Regulatory and Deregulatory Actions” from the drop-down menu, and select “Nuclear Regulatory Commission” from the drop-down menu.

For active rulemaking activities go to https://www.reginfo.gov/public/do/eAgendaMain and select “Nuclear Regulatory Commission” from the drop-down menu.

For long term rulemaking activities go to https://www.reginfo.gov/public/do/eAgendaMain, select link for “Current Long Term Actions,” and select “Nuclear Regulatory Commission” from the drop-down menu.

B. Submitting Comments

The NRC encourages electronic comment submission through the Federal rulemaking website (https://www.regulations.gov). Please include Docket ID NRC-2024-0059 in your comment submission.

The NRC cautions you not to include identifying or contact information that you do not want to be publicly disclosed in your comment submission. The NRC will post all comment submissions at http://www.regulations.gov as well as enter the comment submissions into the NRC's Agencywide Documents Access and Management System (ADAMS). The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

Introduction

The Agenda is a compilation of all rulemaking activities on which an agency has recently completed action or has proposed or is considering action. The Agenda reports rulemaking activities in three major categories: completed, active, and long term. Completed rulemaking activities are those that were completed since publication of an agency's last Agenda; active rulemaking activities are those for which an agency currently plans to have an Advance Notice of Proposed Rulemaking, a Proposed Rule, or a Final Rule issued within the next 12 months; and long term rulemaking activities are rulemaking activities under development but for which an agency does not expect to have a regulatory action within the 12 months after publication of the current edition of the Unified Agenda.

The NRC assigns a “Regulation Identifier Number” (RIN) to a rulemaking activity when the Commission initiates a rulemaking and approves a rulemaking plan, or when the NRC staff begins work on a Commission-delegated rulemaking that does not require a rulemaking plan. The Office of Management and Budget uses this number to track all relevant documents throughout the entire “lifecycle” of a particular rulemaking activity. The NRC reports all rulemaking activities in the Agenda that have been assigned a RIN and meet the definition for a completed, an active, or a long term rulemaking activity.

The information contained in this Agenda is updated to reflect agency priorities, planning and coordination of public engagement efforts, and regulatory actions that have occurred on a rulemaking activity since publication of our last Agenda on February 9, 2024. Specifically, the information in this Agenda has been updated through May 15, 2024. The NRC provides additional information on planned rulemaking and petition for rulemaking activities, including priority and schedule, in the NRC's Rulemaking Tracking System on our website at https://www.nrc.gov/reading-rm/doc-collections/rulemaking-ruleforum/active/ruleindex.html.

The date for the next scheduled action under the heading “Timetable” is the date the next regulatory action for the rulemaking activity is scheduled to be published in the Federal Register. The date is considered tentative and is not binding on the Commission or its staff. The Agenda is intended to provide the public early notice and opportunity to participate in our rulemaking process. However, we may consider or act on any rulemaking activity even though it is not included in the Agenda.

Section 610 Periodic Reviews Under the Regulatory Flexibility Act

Section 610 of the Regulatory Flexibility Act (RFA) requires agencies to conduct a review within 10 years of issuance of those regulations that have or will have a significant economic impact on a substantial number of small entities. We undertake these reviews to decide whether the rules should be unchanged, amended, or withdrawn. We have one review that has a significant economic impact on a substantial number of small entities. Please see docket NRC-2023-0062 at https://www.regulations.gov to comment on NRC's ongoing review, “Section 610 Review of Physical Protection of Byproduct Material”. A complete listing of our regulations that impact small entities and related Small Entity Compliance Guides are available from NRC's website at https://www.nrc.gov/about-nrc/regulatory/rulemaking/flexibility-act/small-entities.html.

For the Nuclear Regulatory Commission.
Cindy K. Bladey,
Chief, Regulatory Analysis and Rulemaking Support Branch, Division of Rulemaking, Environmental, and Financial Support, Office of Nuclear Material Safety and Safeguards.

Nuclear Regulatory Commission—Prerule Stage
Sequence No. | Title | Regulation Identifier No.
359 | Physical Protection of Byproduct Material [NRC-2023-0062] (Section 610 Review) | 3150-AK94

Nuclear Regulatory Commission—Proposed Rule Stage
Sequence No. | Title | Regulation Identifier No.
360 | Revision to the NRC's Acquisition Regulation (NRCAR) [NRC-2014-0033] | 3150-AJ36
361 | Revision of Fee Schedules: Fee Recovery for FY 2025 [NRC-2023-0069] | 3150-AK95

Nuclear Regulatory Commission—Long-Term Actions
Sequence No. | Title | Regulation Identifier No.
362 | Items Containing Byproduct Material Incidental to Production [NRC-2015-0017] | 3150-AJ54
363 | Revision of Fee Schedules: Fee Recovery for FY 2026 [NRC-2023-0212] | 3150-AL12

Nuclear Regulatory Commission—Completed Actions
Sequence No. | Title | Regulation Identifier No.
364 | Revision of Fee Schedules: Fee Recovery for Fiscal Year 2024 [NRC-2022-0046] | 3150-AK74

NUCLEAR REGULATORY COMMISSION (NRC)

Prerule Stage

359. Physical Protection of Byproduct Material [NRC-2023-0062] (Section 610 Review) [3150-AK94]

Legal Authority: 42 U.S.C. 2201; 42 U.S.C. 5841

Abstract: On March 19, 2013, the U.S. Nuclear Regulatory Commission (NRC) promulgated Physical Protection of Byproduct Material (78 FR 16922). The rule amended NRC's regulations to establish security requirements for the use and transport of category 1 and category 2 quantities of radioactive material. Subsequently, on September 30, 2014, the NRC promulgated Safeguards Information—Modified Handling Categorization; Change for Materials Facilities (79 FR 58664), to protect security-related information for large irradiators, manufacturers and distributors, and for the transport of category 1 quantities of radioactive material using the information protection requirements in Part 37. This new entry in the regulatory agenda announces that NRC plans to conduct a review of this action pursuant to section 610 of the Regulatory Flexibility Act (5 U.S.C. 610) to determine if the provisions that could affect small entities should be continued without change or should be rescinded or amended to minimize adverse economic impacts on small entities. As part of this review, NRC will consider the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. As part of this review, the NRC will solicit public comments.

Timetable:

Action | Date | FR Cite
Final Action | 03/19/13 | 78 FR 16922
Begin Review | 07/27/23 | 88 FR 48688
End Review | 11/00/24

Regulatory Flexibility Analysis Required: Yes.

Agency Contact: Gregory Trussell, Nuclear Regulatory Commission, Office of Nuclear Material Safety and Safeguards, Washington, DC 20555-0001, Phone: 301 415-6445, Email: gregory.trussell@nrc.gov.

RIN: 3150-AK94

NUCLEAR REGULATORY COMMISSION (NRC)

Proposed Rule Stage

360. Revision to the NRC's Acquisition Regulation (NRCAR) [NRC-2014-0033] [3150-AJ36]

Legal Authority: 42 U.S.C. 2201; 42 U.S.C. 5841

Abstract: This rulemaking would amend the NRC's acquisition regulation that governs the procurement of goods and services for the agency. The purpose of this rulemaking is to update the NRC's acquisitions regulations (NRCAR) to conform with external regulations, incorporate NRC organizational changes, and remove outdated or obsolete information. The revisions would affect both internal and external stakeholders (contractors) and are needed to support current NRC contracting policies and ensure openness, transparency, and effectiveness in agency acquisitions.

Timetable:

Action | Date | FR Cite
NPRM | 12/00/24

Regulatory Flexibility Analysis Required: Yes.

Agency Contact: Jill Daly, Nuclear Regulatory Commission, Office of Administration, Washington, DC 20055-0001, Phone: 301 415-8079, Email: jill.daly@nrc.gov.

RIN: 3150-AJ36

361. Revision of Fee Schedules: Fee Recovery for FY 2025 [NRC-2023-0069] [3150-AK95]

Legal Authority: 31 U.S.C. 483; 42 U.S.C. 2201; 42 U.S.C. 2214; 42 U.S.C. 5841

Abstract: This rulemaking would amend the NRC's regulations for fee schedules. The NRC conducts this rulemaking annually to recover, to the maximum extent practicable, approximately 100 percent of the NRC's budget authority, less the budget authority for excluded activities to implement the Nuclear Energy Innovation and Modernization Act. NEIMA requires that the FY 2025 fees be collected by September 30, 2025. This rulemaking would affect the fee schedules for licensing, inspection, and annual fees charged to the NRC's applicants and licensees.

Timetable:

Action | Date | FR Cite
NPRM | 02/00/25
Final Rule | 06/00/25

Regulatory Flexibility Analysis Required: Yes.

Agency Contact: Jo Jacobs, Nuclear Regulatory Commission, Office of the Chief Financial Officer, Washington, DC 20555-0001, Phone: 301 415-8388, Email: jo.jacobs@nrc.gov.

RIN: 3150-AK95

NUCLEAR REGULATORY COMMISSION (NRC)

Long-Term Actions

362. Items Containing Byproduct Material Incidental to Production [NRC-2015-0017] [3150-AJ54]

Legal Authority: 42 U.S.C. 2201; 42 U.S.C. 5841

Abstract: This rulemaking would amend the NRC's regulations regarding requirements for track-etched membranes that have been irradiated with mixed fission products during the production process. The rule also would accommodate the licensing and distribution of other irradiated products (e.g., gemstones) without the need for a specific exemption for each distributor. This rulemaking would affect the licensees and applicants for items containing byproduct material incidental to production. The rulemaking addresses a petition for rulemaking (PRM-30-65).

Timetable:

Action | Date | FR Cite
Regulatory Basis | 02/02/21 | 86 FR 7819
Regulatory Basis Comment Period End | 04/05/21
NPRM | 06/27/22 | 87 FR 38012
NPRM Comment Period End | 09/12/22
Final Rule | 12/00/25

Regulatory Flexibility Analysis Required: Yes.

Agency Contact: Caylee Kenny, Nuclear Regulatory Commission, Office of Nuclear Material Safety and Safeguards, Washington, DC 20555-0001, Phone: 301 415-7150, Email: caylee.kenny@nrc.gov.

RIN: 3150-AJ54

363. • Revision of Fee Schedules: Fee Recovery for FY 2026 [NRC-2023-0212] [3150-AL12]

Legal Authority: 31 U.S.C. 483; 42 U.S.C. 2201; 42 U.S.C. 2214; 42 U.S.C. 5841

Abstract: This rulemaking would amend the NRC's regulations for fee schedules. The NRC conducts this rulemaking annually to recover approximately 100 percent of the NRC's FY 2026 budget authority, less excluded activities to implement NEIMA. This rulemaking would affect the fee schedules for licensing, inspection, and annual fees charged to the NRC's applicants and licensees.

Timetable:

Action | Date | FR Cite
NPRM | To Be Determined

Regulatory Flexibility Analysis Required: Yes.

Agency Contact: Anthony Rossi, Nuclear Regulatory Commission, Office of the Chief Financial Officer, Washington, DC 20555-0001, Phone: 301 415-7341, Email: anthony.rossi@nrc.gov.

RIN: 3150-AL12

NUCLEAR REGULATORY COMMISSION (NRC)

Completed Actions

364. Revision of Fee Schedules: Fee Recovery for Fiscal Year 2024 [NRC-2022-0046] [3150-AK74]

Legal Authority: 31 U.S.C. 483; 42 U.S.C. 2201; 42 U.S.C. 2214; 42 U.S.C. 5841

Abstract: This rulemaking would amend the NRC's regulations for fee schedules. The NRC conducts this rulemaking annually to recover, to the maximum extent practicable, approximately 100 percent of the NRC's budget authority, less the budget authority for excluded activities to implement the Nuclear Energy Innovation and Modernization Act. This rulemaking would affect the fee schedules for licensing, inspection, and annual fees charged to the NRC's applicants and licensees.

Timetable:

Action | Date | FR Cite
NPRM | 02/20/24 | 89 FR 12759
NPRM Comment Period End | 03/21/24
Final Rule | 06/20/24 | 89 FR 51789
Final Rule Effective | 08/19/24

Regulatory Flexibility Analysis Required: Yes.

Agency Contact: Anthony Rossi, Nuclear Regulatory Commission, Office of the Chief Financial Officer, Washington, DC 20555-0001, Phone: 301 415-7341, Email: anthony.rossi@nrc.gov.

RIN: 3150-AK74

[FR Doc. 2024-16469 Filed 8-15-24; 8:45 am]

BILLING CODE 7590-01-P